DEPARTMENT OF THE TREASURY

Customs Service

Customs Trade Symposium 2000

AGENCY: Customs Service, Treasury.

ACTION: Notice of symposium.

SUMMARY: This document announces that the Customs Service will convene a major trade symposium to discuss the agency's programs, strategic plans, and its vision for trade in the 21st century. Members of the international trade and transportation community are invited, and, if interested, are requested to register early.

DATES: The symposium will be held on Thursday, November 30, 2000, from 8:00 a.m. to 6:00 p.m. All registrations must be made on-line and confirmed by November 24, 2000.

ADDRESSES: The meeting will be held in Washington, D.C. at the Ronald Reagan Building and International Trade Center, Amphitheater Auditorium, at 1300 Pennsylvania Avenue, N.W.

FOR FURTHER INFORMATION CONTACT: ACS Client Representatives; Customs Account Managers; or the Office of the Trade Ombudsman at (202) 927-1440 (trade.ombudsman@customs.treas.gov). To obtain the latest information on program changes or to register on-line, visit the Customs website at http://www.customs.gov/trade2000.

SUPPLEMENTARY INFORMATION: Customs will be convening a major trade symposium (Customs Trade Symposium 2000) on Thursday, November 30, 2000, from 8:00 a.m. to 6:00 p.m. at the Ronald Reagan Building and International Trade Center Amphitheater Auditorium, 1300 Pennsylvania Avenue, N.W., Washington, D.C. The symposium will highlight Customs present programs and strategic plans, and its vision of international trade in the 21st century. The symposium will feature Commissioner Raymond W. Kelly as the keynote speaker, presentations by senior Customs officials, and a luncheon address by nationally-known political analyst Mark Shields. A reception will follow the program at which senior Customs officials will be available to answer questions.

Symposium program topics include:

Customs Strategic Vision—Preparation for a new era of global trade and the challenges that must be addressed;

The Automated Commercial Environment (ACE)—Timetable for implementation;

Trade Compliance—New policies to drive compliance improvements and to deliver benefits to low-risk importers;

The Entry Revision Project (ERP)—The future of Customs entry processing;

The Reconcilliation Prototype (RECON II)—Streamlining the process and providing a path to periodic filing of post entry amendments;

Post Entry Amendments—Implementation of new policies designed to simplify the Supplemental Information Letter and improve compliance; and

Drawback—Proposals for major legislative changes to modernize the drawback process.

Members of the international trade and transportation community are invited to attend the Symposium. The cost is $ 150 per individual. This includes the cost of the symposium, continental breakfast, luncheon, and a post-symposium reception. Interested parties are requested to register early. All registrations must be made on-line at the Customs website (http://www.customs.gov/trade2000). Registration, which will be accepted on a space available basis, must be confirmed by November 24, 2000.

Dated: October 25, 2000.
Joseph M. Rees,
Trade Ombudsman, U.S. Customs Service.

[FR Doc. 00-27836 Filed 10-30-00; 8:45 am]

BILLING CODE 4820-02-P